ENVIRONMENTAL PROTECTION AGENCY

40 CFR Part 52

[EPA-R06-OAR-2012-0434; FRL-9941-51-Region 6]

Approval and Promulgation of Implementation Plans; Louisiana

AGENCY: Environmental Protection Agency (EPA).

ACTION: Final rule.

SUMMARY: The Environmental Protection Agency (EPA) is finalizing its proposal to approve revisions to the State Implementation Plan (SIP) for Louisiana. These rule revisions are the 2007 General Revisions, and 2008-2010 Miscellaneous Rule Revisions to the SIP that were submitted by the State of Louisiana. The overall intended outcome is to make the approved Louisiana SIP consistent with current Federal and State requirements. This action is in accordance with the federal Clean Air Act (the Act).

DATES: This rule is effective on February 29, 2016.

ADDRESSES: The EPA has established a docket for this action under Docket ID No. EPA-R06-OAR-2012-0434. All documents in the docket are listed on the www.regulations.gov Web site. Although listed in the index, some information is not publicly available, e.g., Confidential Business Information or other information whose disclosure is restricted by statute. Certain other material, such as copyrighted material, is not placed on the Internet and will be publicly available only in hard copy form. Publicly available docket materials are available either electronically through www.regulations.gov or in hard copy at the Air Planning Section (6MM-AA), Environmental Protection Agency, 1445 Ross Avenue, Suite 700, Dallas, Texas 75202-2733. The file will be made available by appointment for public inspection in the Region 6 FOIA Review Room between the hours of 8:30 a.m. and 4:30 p.m. weekdays except for legal holidays.

FOR FURTHER INFORMATION CONTACT: Mr. Alan Shar (6MM-AA), telephone (214) 665-2164, email shar.alan@epa.gov.

SUPPLEMENTARY INFORMATION:

Throughout this document “we,” “us,” and “our” refer to EPA.

I. Background

On November 5, 2015 (80 FR 68481) we proposed to approve revision to the Louisiana SIP that the Louisiana Department of Environmental Quality (LDEQ) submitted to EPA on August 14, 2009, and August 29, 2013.

The Louisiana rule revisions submittals, corresponding Chapters, and type of action that we proposed are in Table 1 below.

Table 1—Submittals, Their Corresponding Chapters, and Action Type
Submittals | Calendar year | Revisions to LAC 33:III chapters being acted upon | Action
Miscellaneous rules | 2008-2010 | 7, 13 | Proposed Approval.
General revisions | 2007 | 1, 9, 11, 13, 14, 21, 22, 23, and 25 | Proposed Approval.

On October 2, 2015 LDEQ submitted a letter withdrawing its revisions to Louisiana Administrative Code (LAC) 33:III, Chapter 15.

The revisions to rules adopt the most recent Particulate Matter standards and make numerous other administrative and ministerial changes. As discussed in our proposal, there is no increase in the amount of emissions or number of sources affected as a result of these ministerial or administrative rules revisions; therefore, section 110(l) of the Act has been complied with. Details of these submittals, their evaluation, and individual chapter-specific conclusions were explained in our proposal, and its corresponding Technical Supporting Document.

Certain provisions of the Louisiana SIP (§§ 1107(A), 1507(A)(1), 1507(B)(1), 2153(B)(1)(i), 2201(C)(8), 2307(C)(1), and 2307(C)(2)) are affected by EPA's June 12, 2015 National SIP Call (80 FR 33967). Approval of amendments to LAC 33:III, Chapters 11, 21, 22, and 23 here should not, in any way, be construed as explicitly or implicitly voiding or minimizing any concerns or inadequacies identified in EPA's National SIP Call with respect to the above referenced provisions. We continue to expect that issues raised within the context of the EPA's National SIP Call to be addressed in a timely fashion. See section 110(k)(5) of the Act.

II. Public Comments

The public comment period for the November 5, 2015 (80 FR 68481) proposal expired on December 7, 2015, and we did not receive any comments on the proposed actions during this period. Therefore, we are finalizing the November 5, 2015 (80 FR 68481) proposal without any changes into the Louisiana SIP.

III. Final Actions

We are approving rule revisions to LAC 33:III, Chapter 1, section 111; Chapter 7, sections 701, 703, and 711; Chapter 9, sections 918, and 919; Chapter 11, sections 1105, and 1107; Chapter 13, sections 1323, 1325, 1327, 1329, 1331, and 1333; Chapter 14, sections 1410, and 1434; Chapter 21, sections 2103, 2108, 2113, 2116, 2121, 2122, 2123, 2132, 2153, and 2159; Chapter 22, section 2201; Chapter 23, sections 2301, 2302, and 2307; and Chapter 25, sections 2511, 2521, and 2531. Our approval will incorporate these changes into the SIP for Louisiana.

IV. Incorporation by Reference

In this rule, we are finalizing regulatory text that includes incorporation by reference. In accordance with the requirements of 1 CFR 51.4, we are finalizing the incorporation by reference of the revisions to the Louisiana regulations as described in the Final Action section above. We have made, and will continue to make, these documents generally available electronically through www.regulation.gov, Docket ID. No. EPA-R06-OAR-2012-0434.

V. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this final action approves state law as meeting Federal requirements and does not impose additional requirements beyond those imposed by state law. For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act;

• Does not provide EPA with the discretionary authority to address, as appropriate, disproportionate human health or environmental effects, using practicable and legally permissible methods, under Executive Order 12898 (59 FR 7629, February 16, 1994); and

• Does not have tribal implications as specified by Executive Order 13175 (65 FR 67249, November 9, 2000), because the SIP is not approved to apply in Indian country located in the state, and EPA notes that it will not impose substantial direct costs on tribal governments or preempt tribal law.

Under section 307(b)(1) of the Clean Air Act, petitions for judicial review of this action must be filed in the United States Court of Appeals for the appropriate circuit by March 28, 2016. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Reporting and recordkeeping requirements, Volatile organic compounds.

Dated: January 13, 2016.
Ron Curry,
Regional Administrator, Region 6.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart T—Louisiana

2. The table in § 52.970(c) entitled “EPA Approved Louisiana Regulations in the Louisiana SIP” is amended as follows:

a. Under Chapter 1, General Provisions, by revising the entries for Section 111;

b. Under Chapter 7, Ambient Air Quality, by adding in numerical order an entry for Section 701 and by revising the entries for Sections 703 and 711;

c. Under Chapter 9, General Regulation on Control of Emissions and Emission Standards, by revising the entry for Section 918 and adding in numerical order an entry for Section 919.;

d. Under Chapter 11, Control of Emissions of Smoke, by revising the entries for Sections 1105.A and 1107.A;

e. Under Chapter 13, Emission Standards for Particulate Matter, by adding in numerical order entries for Sections 1323, 1325, 1327, 1329, 1331, and 1333;

f. Under Chapter 14, Conformity, by revising the entries for Sections 1410.A.5.a.i and 1434.

g. Under Chapter 21, Control of Emissions of Organic Compounds, “Subchapter A—General” by revising the entries for Sections 2103.D.4.a, 2108.F.1, 2113.A.4, adding an entry for Section 2116, and revising entries for 2121.F, and 2122.G;

h. Under Chapter 21, Control of Emissions of Organic Compounds, “Subchapter B—Organic Solvents” by revising the entry for Section 2123.D.1;

i. Under Chapter 21, Control of Emissions of Organic Compounds, “Subchapter F—Gasoline Handling” by by adding entries for Sections 2132.B.6, 2132.B.8, 2132.D.1, 2132.D.3;

j. Under Chapter 21, Control of Emissions of Organic Compounds, “Subchapter M—Limiting Volatile Organic Compound Emissions from Industrial Wastewater” by adding entries for Sections 2153.G.4.b-c, and 2153.G.5.a-c;

k. Under Chapter 21, Control of Emissions of Organic Compounds, “Subchapter N—Method 43 Capture Efficiency Test Procedures” by revising the entry for Section 2159;

l. Under Chapter 22, Control of Emissions of Nitrogen Oxides (NOX), by revising the entry for Section 2201. F.7.a;

m. Under Chapter 23, Control of Emissions from Specific Industries, “Subchapter A—Chemical Woodpulping Industry” by revising the entry for Section 2301.D.4.a and under “Subchapter B—Aluminum Plants by revising the entry for Section 2303.E;

n. Under Chapter 23, Control of Emissions from Specific Industries, “Subchapter D—Emission Standards for the Nitric Acid Industry” by revising the entry for Section 2307.C.1.a and 2307.C.2.a;

o. Under Chapter 25, Miscellaneous Incinerator Rules, “Subchapter B—Biomedical Waste Incinerators” by revising the entry for Section 2511;

p. Under Chapter 25, Miscellaneous Incinerator Rules, “Subchapter C—Refuse Incinerators” by revising the entry for Section 2521;

q. Under Chapter 25, Miscellaneous Incinerator Rules, “Subchapter D—Crematories” by adding an entry for Section 2531.

The revisions and additions read as follows:

§ 52.970 Identification of plan.

* * * * *

(c) * * *

EPA Approved Louisiana Regulations in the Louisiana SIP
State citation | Title/subject | State approval date | EPA Approval date | Comments
* * * * * * *
LAC Title 33. Environmental Quality Part III. Air
Chapter 1—General Provisions
* * * * * * *
Section 111 | Definitions | 10/20/07 | 01/28/16 [Insert Federal Register citation] | SPOC
* * * * * * *
Chapter 7—Ambient Air Quality
Section 701 | Purpose | 03/20/08 | 01/28/16 [Insert Federal Register citation] |
* * * * * * *
Section 703 | Scope | 03/20/08 | 01/28/16 [Insert Federal Register citation] |
* * * * * * *
Section 711 | Tables 1, 1a, and 2—Air Quality | 03/20/08 | 01/28/16 [Insert Federal Register citation] | PM2.5 and PM10 standards.
* * * * * * *
Chapter 9—General Regulations on Control of Emissions and Emission Standards
* * * * * * *
Section 918 | Recordkeeping and Annual Reporting | 10/20/07 | 01/28/16 [Insert Federal Register citation] |
* * * * * * *
Section 919 | Emission Inventory | 10/20/07 | 01/28/16 [Insert Federal Register citation] |
* * * * * * *
Chapter 11—Control of Emissions From Smoke
* * * * * * *
Section 1105.A | Smoke from Flaring Shall Not Exceed 20 Percent Opacity | 10/20/07 | 01/28/16 [Insert Federal Register citation] |
Section 1107.A | Exemptions | 10/20/07 | 01/28/16 [Insert Federal Register citation] | Administrative change here; 1107(A) is subject to SIP Call.
* * * * * * *
Chapter 13—Emission Standards for Particulate Matter
* * * * * * *
Subchapter F—Abrasive Blasting
Section 1323 | Emissions from Abrasive Blasting | 01/17/12 | 01/28/16 [Insert Federal Register citation] |
Section 1325 | Definitions | 05/20/07 | 01/28/16 [Insert Federal Register citation] |
Section 1327 | Blasting Operations | 07/20/09 | 01/28/16 [Insert Federal Register citation] |
Section 1329 | Performance Standard | 05/20/07 | 01/28/16 [Insert Federal Register citation] |
Section 1331 | Best management Practices (BMP) Plans | 05/20/07 | 01/28/16 [Insert Federal Register citation] |
Section 1333 | Recordkeeping and Reporting | 07/20/09 | 01/28/16 [Insert Federal Register citation] |
Chapter 14—Conformity
Subchapter A—Determining Conformity of General Federal Actions to State or Federal Implementations Plans
* * * * * * *
Section 1410.A.5.a.i | Criteria for Determining Conformity of General Federal Actions | 10/20/07 | 01/28/16 [Insert Federal Register citation] |
* * * * * * *
Subchapter B—Conformity to State or Federal Implementation Plans of Transportation Plans, Programs, and Projects Developed, Funded, or Approved Under Title 23 U.S.C. or the Federal Transit Act
* * * * * * *
Section 1434 | Consultation | 10/20/07 | 01/28/16 [Insert Federal Register citation] |
* * * * * * *
Chapter 21—Control of Emissions of Organic Compounds
Subchapter A—General
* * * * * * *
Section 2103.D.4.a | Storage of Volatile Organic Compounds | 10/20/07 | 01/28/16 [Insert Federal Register citation] |
* * * * * * *
Section 2108.F.1 | Marine Vapor Recovery | 10/20/07 | 01/28/16 [Insert Federal Register citation] |
* * * * * * *
Section 2113.A.4 | Housekeeping | 10/20/07 | 01/28/16 [Insert Federal Register citation] |
* * * * * * *
Section 2116 | Glycol Dehydrators | 10/20/07 | 01/28/16 [Insert Federal Register citation] |
* * * * * * *
Section 2121.F | Fugitive Emission Control | 10/20/07 | 01/28/16 [Insert Federal Register citation] |
* * * * * * *
Section 2122.G | Fugitive Emission Control for Ozone Nonattainment Areas and Specified Parishes | 10/20/07 | 01/28/16 [Insert Federal Register citation] |
* * * * * * *
Subchapter B—Organic Solvents
* * * * * * *
Section 2123.D.1 | Organic Solvents | 10/20/07 | 01/28/16 [Insert Federal Register citation] |
* * * * * * *
Subchapter F—Gasoline Handling
* * * * * * *
Section 2132.B.6 | Applicability | 10/20/07 | 01/28/16 [Insert Federal Register citation] |
* * * * * * *
Section 2132.B.8 | Applicability | 10/20/07 | 01/28/16 [Insert Federal Register citation] |
* * * * * * *
Section 2132.D.1 | Testing | 10/20/07 | 01/28/16 [Insert Federal Register citation] |
* * * * * * *
Section 2132.D.3 | Testing | 10/20/07 | 01/28/16 [Insert Federal Register citation] |
* * * * * * *
Subchapter M—Limiting Volatile Organic Compound Emissions From Industrial Wastewater
* * * * * * *
Section 2153.G.4.b-c | Limiting Volatile Organic Compound Emissions from Industrial Wastewater | 10/20/07 | 01/28/16 [Insert Federal Register citation] |
* * * * * * *
Section 2153.G.5.a-c | Limiting Volatile Organic Compound Emissions from Industrial Wastewater | 10/20/07 | 01/28/16 [Insert Federal Register citation] |
* * * * * * *
Subchapter N—Method 43 Capture Efficiency Test Procedures
* * * * * * *
Section 2159.A-C | Recordkeeping and Reporting | 10/20/07 | 01/28/16 [Insert Federal Register citation] |
* * * * * * *
Chapter 22—Control of Emissions of Nitrogen Oxides (NOX)
* * * * * * *
Section 2201.F.7.a | Permits | 10/20/07 | 01/28/16 [Insert Federal Register citation] |
* * * * * * *
Chapter 23—Control of Emissions From Specific Industries
Subchapter A—Chemical Woodpulping Industry
* * * * * * *
Section 2301.D.4.a | Control of Emissions From Chemical Woodpulping Industry. Compliance | 10/20/07 | 01/28/16 [Insert Federal Register citation] |
* * * * * * *
Subchapter B—Aluminum Plants
Section 2303.E | Standards for Horizontal Stud Soderberg Primary Aluminum Plants and Prebake Primary Aluminum Plants. Monitoring | 10/20/07 | 01/28/16 [Insert Federal Register citation] |
* * * * * * *
Subchapter D—Nitric Acid Industry
* * * * * * *
Section 2307.C.1.a | Start-Up Provisions | 10/20/07 | 01/28/16 [Insert Federal Register citation] | Administrative change here; 2307(C)(1) is subject to SIP Call.
Section 2307.C.2.a | On-Line Operating Adjustments | 10/20/07 | 01/28/16 [Insert Federal Register citation] | Administrative change here; 2307(C)(2) is subject to SIP Call.
Chapter 25—Miscellaneous Incinerator Rules
* * * * * * *
Subchapter B—Biomedical Waste Incinerators
* * * * * * *
Section 2511 | Standards of Performance for Biomedical Waste Incinerators. Registration | 10/20/07 | 01/28/16 [Insert Federal Register citation] |
* * * * * * *
Subchapter C—Refuse Incinerators
* * * * * * *
Section 2521 | Refuse Incinerators | 10/20/07 | 01/28/16 [Insert Federal Register citation] |
Subchapter D—Crematories
Section 2531 | Standards of Performance for Crematories | 10/20/07 | 01/28/16 [Insert Federal Register citation] |
| * * * * * * *

* * * * *

[FR Doc. 2016-01569 Filed 1-27-16; 8:45 am]

BILLING CODE 6560-50-P